DEPARTMENT OF ENERGY

Federal Energy Regulatory Commission

Combined Notice of Filings #1

Take notice that the Commission received the following electric rate filings:

Docket Numbers: ER17-228-002.

Applicants: King Forest Industries, Inc.

Description: Tariff Amendment: 2nd Amended MBR Filing to be effective12/1/2016.

Filed Date: 12/1/16.

Accession Number: 20161201-5000.

Comments Due: 5 p.m. ET 12/22/16.

Docket Numbers: ER17-438-000.

Applicants: Alcoa Power Generating Inc.

Description: § 205(d) Rate Filing: Transmission Svc Agmt for Native Load Customer—APGI (Long Sault) & Arconic to be effective 11/1/2016.

Filed Date: 11/30/16.

Accession Number: 20161130-5315.

Comments Due: 5 p.m. ET 12/21/16.

Docket Numbers: ER17-439-000.

Applicants: Midcontinent Independent System Operator, Inc., ITC Midwest LLC.

Description: § 205(d) Rate Filing: 2016-11-30_SA 1925 ITC Midwest-Interstate Power and Light 3rd Rev. DTIA to be effective 12/1/2016.

Filed Date: 11/30/16.

Accession Number: 20161130-5320.

Comments Due: 5 p.m. ET 12/21/16.

Docket Numbers: ER17-440-000.

Applicants: Alpaca Energy LLC.

Description: § 205(d) Rate Filing: Alpaca Reactive Supply Service Filing to be effective 2/1/2017.

Filed Date: 11/30/16.

Accession Number: 20161130-5322.

Comments Due: 5 p.m. ET 12/21/16.

Docket Numbers: ER17-441-000.

Applicants: Black Hills Power, Inc.

Description: § 205(d) Rate Filing: Powder River Energy Corporation Rate Modification in Joint Tariff to be effective 1/30/2017.

Filed Date: 11/30/16.

Accession Number: 20161130-5324.

Comments Due: 5 p.m. ET 12/21/16.

Docket Numbers: ER17-442-000.

Applicants: La Paloma Generating Company, LLC.

Description: Compliance filing: Revised MBR Tariff to be effective1/30/2017.

Filed Date: 11/30/16.

Accession Number: 20161130-5328.

Comments Due: 5 p.m. ET 12/21/16.

Docket Numbers: ER17-443-000.

Applicants: Public Service Company of New Mexico.

Description: § 205(d) Rate Filing: PNM's Certificate of Concurrence with Arizona Public Service Company's RS 284 to be effective 10/31/2016.

Filed Date: 11/30/16.

Accession Number: 20161130-5330.

Comments Due: 5 p.m. ET 12/21/16.

Docket Numbers: ER17-444-000.

Applicants: Milan Energy LLC.

Description: § 205(d) Rate Filing: Milan Energy Reactive Supply Service Filing to be effective 2/1/2017.

Filed Date: 11/30/16.

Accession Number: 20161130-5331.

Comments Due: 5 p.m. ET 12/21/16.

Docket Numbers: ER17-445-000.

Applicants: Public Service Company of New Mexico.

Description: § 205(d) Rate Filing: Modifications to NITSA/NOA between PNM and Jicarilla Apache Nation to be effective 12/1/2016.

Filed Date: 11/30/16.

Accession Number: 20161130-5336.

Comments Due: 5 p.m. ET 12/21/16.

Docket Numbers: ER17-446-000.

Applicants: New York Independent System Operator, Inc.

Description: § 205(d) Rate Filing: NYISO 205 tariff filing re: Capacity exports from certain New York localities to be effective 1/29/2017.

Filed Date: 11/30/16.

Accession Number: 20161130-5342.

Comments Due: 5 p.m. ET 12/21/16.

Docket Numbers: ER17-447-000.

Applicants: Public Service Company of New Mexico.

Description: § 205(d) Rate Filing: Modifications to Contract P0695 between PNM and Western to be effective 12/1/2016.

Filed Date: 11/30/16.

Accession Number: 20161130-5355.

Comments Due: 5 p.m. ET 12/21/16.

Docket Numbers: ER17-448-000.

Applicants: Quantum Pasco Power, LP.

Description: Compliance filing: Revised MBR Tariff to be effective1/30/2017.

Filed Date: 12/1/16.

Accession Number: 20161201-5006.

Comments Due: 5 p.m. ET 12/22/16.

Docket Numbers: ER17-449-000.

Applicants: RC Cape May Holdings, LLC.

Description: Compliance filing: Revised MBR Tariff to be effective1/30/2017.

Filed Date: 12/1/16.

Accession Number: 20161201-5008.

Comments Due: 5 p.m. ET 12/22/16.

Docket Numbers: ER17-450-000.

Applicants: PJM Interconnection, L.L.C.

Description: Tariff Cancellation: Notice of Cancellation of Service Agreement No. 4529, Queue No. AA2-180 to be effective 11/27/2016.

Filed Date: 12/1/16.

Accession Number: 20161201-5100.

Comments Due: 5 p.m. ET 12/22/16.

Docket Numbers: ER17-451-000.

Applicants: PJM Interconnection, L.L.C.

Description: Tariff Cancellation: Notice of Cancellation of Service Agreement No. 3574, Queue No. Y1-034 to be effective 8/6/2016.

Filed Date: 12/1/16.

Accession Number: 20161201-5103.

Comments Due: 5 p.m. ET 12/22/16.

Docket Numbers: ER17-452-000.

Applicants: Gibson City Energy Center, LLC.

Description: Compliance filing: Revised MBR Tariff to be effective1/30/2017.

Filed Date: 12/1/16.

Accession Number: 20161201-5117.

Comments Due: 5 p.m. ET 12/22/16.

Docket Numbers: ER17-453-000.

Applicants: Grand Tower Energy Center, LLC.

Description: Compliance filing: Revised MBR Tariff to be effective1/30/2017.

Filed Date: 12/1/16.

Accession Number: 20161201-5120.

Comments Due: 5 p.m. ET 12/22/16.

Docket Numbers: ER17-454-000.

Applicants: Hazle Spindle, LLC.

Description: Compliance filing: Revised MBR Tariff to be effective1/30/2017.

Filed Date: 12/1/16.

Accession Number: 20161201-5126.

Comments Due: 5 p.m. ET 12/22/16.

Docket Numbers: ER17-455-000.

Applicants: Stephentown Spindle, LLC.

Description: Compliance filing: Revised MBR Tariff to be effective1/30/2017.

Filed Date: 12/1/16.

Accession Number: 20161201-5130.

Comments Due: 5 p.m. ET 12/22/16.

Docket Numbers: ER17-456-000.

Applicants: Vineland Energy LLC.

Description: Compliance filing: Revised MBR Tariff to be effective1/30/2017.

Filed Date: 12/1/16.

Accession Number: 20161201-5133.

Comments Due: 5 p.m. ET 12/22/16.

Docket Numbers: ER17-457-000.

Applicants: Shelby County Energy Center, LLC.

Description: Compliance filing: Revised MBR Tariff to be effective1/30/2017.

Filed Date: 12/1/16.

Accession Number: 20161201-5164.

Comments Due: 5 p.m. ET 12/22/16.

Docket Numbers: ER17-458-000.

Applicants: Sabine Cogen, LP.

Description: Compliance filing: Revised MBR Tariff to be effective1/30/2017.

Filed Date: 12/1/16.

Accession Number: 20161201-5173.

Comments Due: 5 p.m. ET 12/22/16.

Docket Numbers: ER17-459-000.

Applicants: Public Service Company of New Mexico.

Description: Notice of Cancellation of Rate Schedule No. 152 of Public Service Company of New Mexico.

Filed Date: 11/30/16.

Accession Number: 20161130-5421.

Comments Due: 5 p.m. ET 12/21/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 1, 2016.
Nathaniel J. Davis, Sr.,
Deputy Secretary.

[FR Doc. 2016-29416 Filed 12-7-16; 8:45 am]

BILLING CODE 6717-01-P